NUCLEAR REGULATORY COMMISSION

Sunshine Act; Meetings

Date: Weeks of April 21, 28, May 5, 12, 19, 26, 2003.

Place: Commissioner's Conference Room, 11555 Rockville Pike, Rockville, Maryland.

Status: Public and Closed.

Matters to be considered:

Week of April 21, 2003

There are no meetings scheduled for the Week of April 21, 2003.

Week of April 28, 2003—Tentative

There are no meetings scheduled for the Week of April 28, 2003.

Week of May 5, 2003—Tentative

There are no meetings scheduled for the Week of May 5, 2003.

Week of May 12, 2003—Tentative

Thursday, May 15, 2003

9:30 a.m. Briefing on Results of Agency Action Review Meeting (Public Meeting) (Contact: Robert Pascarelli, 301-415-1245).

This meeting will be webcast live at the Web address— http://www.nrc.gov.

Week of May 19, 2003—Tentative

There are no meetings scheduled for the Week of May 19, 2003.

Week of May 26, 2003—Tentative

Wednesday, May 28, 2003

9:30 a.m. Meeting with Advisory Committee on the Medical Uses of Isotopes (ACMUI) (Public Meeting) (Contact: Angela Williamson, 301-415-5030).

This meeting will be webcast live at the Web address— http://www.nrc.gov.

Thursday, May 29, 2003

9:30 a.m. Briefing on Status of Revisions to the Regulatory Framework for Steam Generator Tube Integrity (Public Meeting) (Contact: Louise Lund, 301-415-3248).

This meeting will be webcast live at the Web address—http.//www.nrc.gov.

2 p.m. Briefing on Equal Employment Opportunity Program (Public Meeting) (Contact: Corenthis Kelley, 301-415-7380).

The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: April 17, 2003.
D.L. Gamberoni,
Technical Coordinator, Office of the Secretary.

[FR Doc. 03-10008 Filed 4-18-03; 12:01 am]

BILLING CODE 759-01-M